DEPARTMENT OF COMMERCE

National Oceanic and Atmospheric Administration

[I.D. 081104F]

Gulf of Mexico Fishery Management Council; Public Meeting

AGENCY: National Marine Fisheries Service (NMFS), National Oceanic and Atmospheric Administration (NOAA), Commerce.

SUMMARY: The Gulf of Mexico Fishery Management Council (Council) will convene a public meeting of its Standing and Special Mackerel Scientific and Statistical Committees (SSCs) to review stock assessment reports and proposed revisions to the guidelines for National Standard One.

DATES: The Council's Standing and Special Mackerel SSCs will convene from 9 a.m. to 5 p.m. on Wednesday, September 1, 2004.

ADDRESSES: The meeting will be at the DoubleTree Guest Suites Tampa Bay, 3050 North Rocky Point Drive West, Tampa, FL; telephone: 813-888-8800.

Council address: Gulf of Mexico Fishery Management Council, 3018 U.S. Highway 301 North, Suite 1000, Tampa, FL 33619.

FOR FURTHER INFORMATION CONTACT: Dr. Rick Leard, Deputy Executive Director, Gulf of Mexico Fishery Management Council, 3018 U.S. Highway 301 North, Suite 1000, Tampa, FL 33619; telephone: 813-228-2815.

SUPPLEMENTARY INFORMATION: The Gulf of Mexico Fishery Management Council will convene its Standing and Special Mackerel SSC to review stock assessment information on mackerel stocks that were developed as part of the Southeast Area Data and Assessment Review (SEDAR) 5 workshops. As part of the stock assessment process, three workshops were held between December 2003 and April 2004. The first workshop reviewed available data that would be used to develop stock assessments for Gulf and Atlantic group king mackerel. The second workshop provided a forum for developing the stock assessment, and the third workshop was a peer review of the stock assessment. The SSC will review the workshop reports as well as other information that was made available to the workshop attendees and provide the Council with a determination of whether the assessment reflects the best available scientific information. The SSC will also review draft revised guidelines for implementing National Standard 1 or the Magnuson-Stevens Fishery Conservation and Management Act (Magnuson Act) that addresses overfishing and achieving optimum yield from the Nation's fisheries.

Copies of the agenda and other related materials can be obtained by calling 813-228-2815.

Although other non-emergency issues not on the agendas may come before the SSCs for discussion, in accordance with the Magnuson Act, those issues may not be the subject of formal action during these meetings. Actions of the SSC will be restricted to those issues specifically identified in the agendas and any issues arising after publication of this notice that require emergency action under Section 305(c) of the Magnuson Act, provided the public has been notified of the Council's intent to take action to address the emergency.

Special Accommodations

The meetings are open to the public and physically accessible to people with disabilities. Requests for sign language interpretation or other auxiliary aids should be directed to Dawn Aring at the Council (see ADDRESSES) office by August 18, 2004.

Dated: August 12, 2004.
Alan D. Risenhoover,
Acting Director, Office of Sustainable Fisheries, National Marine Fisheries Service.

[FR Doc. 04-18806 Filed 8-16-04; 8:45 am]

BILLING CODE 3510-22-S